FEDERAL COMMUNICATIONS COMMISSION

47 CFR Part 79

[MB Docket No. 12-217; DA 12-2081]

Cable Television Technical and Operational Requirements

AGENCY: Federal Communications Commission.

ACTION: Proposed rule; extension of reply comment period.

SUMMARY: In this document, the Commission extends the deadline for filing reply comments on the Commission's Notice of Proposed Rulemaking (NPRM) in this proceeding, which was published in the Federal Register on October 9, 2012 (77 FR 61351). The extension will facilitate the development of a full record given the importance of the issues in this proceeding.

DATES: The reply comment period for the proposed rule published October 9, 2012 (77 FR 61351) is extended. Submit reply comments on or before January 25, 2013.

ADDRESSES: You may submit reply comments, identified by MB Docket No. 12-217, by any of the following methods:

• Federal eRulemaking Portal: http://www.regulations.gov. Follow the instructions for submitting comments.

• Federal Communications Commission's Electronic Comment Filing System (ECFS) Web Site: http://www.fcc.gov/cgb/ecfs. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the FCC to request reasonable accommodations (accessible format documents, sign language interpreters, CART, etc.) by email: FCC504@fcc.gov or phone (202) 418-0530 or TTY: (202) 418-0432.

For detailed instructions on submitting comments and additional information on the rulemaking process, see the SUPPLEMENTARY INFORMATION section of the NPRM.

FOR FURTHER INFORMATION CONTACT: Jeffrey Neumann, Jeffrey.Neumann@fcc.gov, of the Engineering Division, Media Bureau, (202) 418-2046.

SUPPLEMENTARY INFORMATION: This is a summary of the Commission's Order in MB Docket No. 12-217, DA 12-2081, adopted and released on December 21, 2012, which extends the reply comment filing deadline established in the NPRM published under FCC No. 12-86 at 77 FR 61351, October 9, 2012. The full text of this document is available for inspection and copying during normal business hours in the FCC Reference Center, 445 12th Street SW., Washington, DC 20554. The complete text may be purchased from the Commission's copy contractor, Best Copy and Printing, Inc., 445 12th Street SW., Room CY-B402, Washington, DC 20554. The full text may also be downloaded at: http://www.fcc.gov. Alternative formats are available to persons with disabilities by sending an email to fcc504@fcc.gov or by calling the Consumer & Governmental Affairs Bureau at (202) 418-0530 (voice), (202) 418-0432 (TTY).

Background

1. The NPRM in this proceeding established a comment deadline of December 8, 2012, and a reply comment deadline of January 7, 2013. On December 21, 2012, the National Association of Telecommunications Officers and Advisors (“NATOA”) requested that the reply comment deadline be extended by five weeks, to allow for additional time to compile records in response to assertions made by other commenters, and to permit time for discussions with other commenters regarding differences in the positions taken in their comments. We grant NATOA's request in part.

2. As set forth in Section 1.46 of the Commission's Rules, 47 CFR 1.46(a), of the Commission's Rules, the Commission's policy is that extensions of time shall not be routinely granted. Given the importance of the issues in this proceeding, and in the interest of encouraging thoughtful consideration of these issues, however, we believe that granting in part NATOA's request is necessary to facilitate the development of a full record. However, we feel that five weeks is unnecessarily long to accomplish these goals and note that parties may avail themselves of the ex parte process after the submission of their reply comments if necessary. Therefore, we grant an extension of 18 days, until January 25, 2013 for file reply comments.

Ordering Clauses

Pursuant to section 4(i) of the Communications Act of 1934, as amended, 47 U.S.C. 154(i), and §§ 0.61, 0.283, and 1.46 of the Commission's rules, 47 CFR 0.61, 0.283, and 1.46, the Motion for Extension of Time to File Reply Comments filed by NATOA is granted in part, and the deadline to file reply comments in this proceeding is extended to January 25, 2013.

Federal Communications Commission.
William T. Lake,
Chief, Media Bureau.

[FR Doc. 2013-00248 Filed 1-8-13; 8:45 am]

BILLING CODE 6712-01-P